FEDERAL RESERVE SYSTEM

Formations of, Acquisitions by, and Mergers of Bank Holding Companies; Correction

This notice corrects a notice (FR Doc. 2010-7980) published on page 17917 of the issue for Thursday, April 8, 2010.

Under the Federal Reserve Bank of New York heading, the entry for Morgan Stanley, New York, New York, is revised to read as follows:

A. Federal Reserve Bank of New York (Ivan Hurwitz, Bank Applications Officer) 33 Liberty Street, New York, New York 10045-0001:

1. Morgan Stanley, New York, New York; to acquire 100 percent of the voting shares of Morgan Stanley Private Bank, N.A., Jersey City, New Jersey, as a result of converting Morgan Stanley Trust, Jersey City, New Jersey, into a national bank. Morgan Stanley Private Bank, N.A., will assume certain deposit liabilities of Morgan Stanley Bank, N.A., Salt Lake City, Utah, and will be relocated to Purchase, New York.

Comments on this application must be received by April 26, 2010.

Board of Governors of the Federal Reserve System, April 8, 2010.
Robert deV. Frierson,
Deputy Secretary of the Board.

[FR Doc. 2010-8393 Filed 4-12-10 8:45 am]

BILLING CODE 6210-01-S